DEPARTMENT OF THE INTERIOR

Bureau of Land Management

Notice of Realty Action; Recreation and Public Purposes (R&PP) Act Classification; Utah [UT045-1430-ES; UTU-45941]

AGENCY: Bureau of Land Management (BLM), DOI.

SUMMARY: The following public lands, located in the city of St. George in Washington County, Utah, have been examined and found suitable for classification for lease or conveyance to the Washington County School District under the provisions of the Recreation and Public Purposes Act, as amended (43 U.S.C. 869 et.seq.):

Salt Lake Meridian, Utah

T. 43 S., R. 15 W.,

Sec. 8, S1/2N1/2SE1/4SW1/4NW1/4, S1/2SE1/4SW1/4NW1/4; containing 7.50 acres.

SUPPLEMENTARY INFORMATION: The Washington County School District currently leases land from the Bureau of Land Management for a bus garage and elementary school site in the Bloomington Hills area of St. George City. Additional space is needed for bus maintenance and parking. The School District proposes to expand their site to give them additional space. They have also proposed to construct a driver training course. Leasing or conveying title to these public land is consistent with current BLM land use planning and would be in the public interest.

The lease or patent, when issued, would be subject to the following terms, conditions, and reservations:

1. Provisions of the Recreation and Public Purposes Act and all applicable regulations of the Secretary of the Interior.

2. A right-of-way for ditches and canals constructed by the authority of the United States.

3. All minerals shall be reserved to the United States, together with the right to prospect for, mine, and remove the minerals.

Detailed information concerning this action is available at the office of the Bureau of Land Management, St. George Field Office, 345 E. Riverside Drive, St. George, Utah 84790.

Upon publication of this notice in the Federal Register, the land will be segregated from all other forms of appropriation under the public land laws, including the general mining laws, except for leasing or conveyance under the Recreation and Public Purposes Act and leasing under the mineral leasing laws. For a period of 45 days from the date of publication of this notice in the Federal Register, interested persons may submit comments regarding the proposed classification, leasing or conveyance of the land to the Field Office Manager, St. George Field Office.

Classification Comments: Interested parties may submit comments concerning the suitability of the lands for school purposes. Comments on the classification are restricted to whether the land is physically suited for the proposal, whether the use will maximize the future use or uses of the land, whether the use is consistent with local planning and zoning, or if the use is consistent with State and Federal programs.

Application Comments: Interested parties may submit comments regarding the specific use proposed in the Washington County School District's application and plan of development, whether the BLM followed proper administrative procedures in reaching the decision, or any other factor not directly related to the suitability of the land for recreation and public purposes.

Any adverse comments will be reviewed by the State Director. In the absence of any adverse comments, the classification will become effective 60 days from the date of publication of this notice.

Dated: August 7, 2001.
James D. Crisp,
Field Office Manager.

[FR Doc. 01-21477 Filed 8-23-01; 8:45 am]

BILLING CODE 4310-DQ-U